DEPARTMENT OF VETERANS AFFAIRS

Fund Availability Under the Supportive Services for Veteran Families Program; Amendment

AGENCY: Department of Veterans Affairs.

ACTION: Amendment to notices.

SUMMARY: The Department of Veterans Affairs (VA) is announcing an amendment to the Notices of Fund Availability issued in fiscal years 2011 and 2012 for supportive services grants under the Supportive Services for Veteran Families (SSVF) Program.

VA published two Notices in the Federal Register on December 17, 2010 (75 FR 79087), and on December 1, 2011 (76 FR 74849), titled, “Fund Availability Under the Supportive Services for Veteran Families Program.” Under “Requirements for the Use of Supportive Services Grant Funds” section of the Notices, grantees were permitted to “utilize a maximum of 30 percent of supportive services grant funds to provide the supportive service of temporary financial assistance paid directly to a third party on behalf of a participant for child care, transportation, rental assistance, utility-fee payment assistance, security deposits, utility deposits, moving costs, and emergency supplies in accordance with 38 CFR 62.33 and 62.34 of the final rule.”

VA has received comments from a variety of stakeholders that the 30 percent maximum for financial assistance is inadequate to meet the needs of Veteran families served in SSVF. For instance, the Department of Housing and Urban Development offers similar financial assistance through its Homeless Prevention and Rapid Re-housing and Emergency Solutions Grant programs without such caps and also allows longer time limits for financial assistance. Grantees have stated that they are turning away eligible Veteran families for services as they are unable to successfully intervene to meet the needs of these families within the program's limits on financial assistance. As this limit may interfere with the mission of the SSVF program to prevent and end homelessness, VA announces that grantees are permitted to utilize a maximum of 50 percent of supportive services grant funds for these purposes.

Technical Assistance: Information regarding how to obtain technical assistance with the preparation of this request should be directed to a grantee's regional coordinator. Additional information can also be found at http://www.va.gov/HOMELESS/SSVF.asp.

FOR FURTHER INFORMATION CONTACT: John Kuhn, Supportive Services for Veteran Families Program Office, National Center on Homelessness Among Veterans, 4100 Chester Avenue, Suite 201, Philadelphia, PA 19104; (877) 737-0111 (this is a toll-free number); SSVF@va.gov.

SUPPLEMENTARY INFORMATION:

I. Eligibility Information

Eligible Applicants: In order to be eligible, an applicant must be a current SSVF grantee.

II. Application and Submission Information

Content and Form of Application: Current SSVF grantees interested in increasing the funds they can make available for temporary financial assistance should submit a program change request along with a revised budget through their regional coordinator. No change in the total program award will be made in conjunction with such a request.

Approved: September 13, 2012.
John R. Gingrich,
Chief of Staff, Department of Veterans Affairs.

[FR Doc. 2012-23210 Filed 9-19-12; 8:45 am]

BILLING CODE 8320-01-P